DEPARTMENT OF TRANSPORTATION

Federal Highway Administration

Notice of Limitation on Claims for the Campus Parkway

AGENCY: Federal Highway Administration (FWHA), DOT.

ACTION: Notice of Limitation on Claims for Judicial Review of Actions by FHWA and other Federal Agencies.

SUMMARY: This notice announces actions taken by FHWA and other Federal agencies that are final within the meaning of 23 U.S.C. 139(I)(1). These actions relate to a proposed 7.25 km (4.5 mile) Campus Parkway, which would be a four-lane expressway beginning at the Mission Avenue Interchange on State Route 99 and extending north on new alignment to Yosemite Avenue, south and east of the City of Merced in Merced County, State of California. These actions grant approvals for the project.

DATES: By this notice, the FHWA is advising the public of final agency actions subject to 23 U.S.C. 139(I)(1). A claim seeking judicial review of the Federal agency actions on the expressway project will be barred unless the claim is filed on or before November 13, 2007. If the Federal law that authorizes judicial review of a claim provides a time period of less than 180 days for filing such claim, then that shorter time period still applies.

FOR FURTHER INFORMATION CONTACT: Edrie Vinson, Senior Environmental Specialist, Federal Highway Administration, 650 Capitol Mall, Suite 4-100, Sacramento, CA 95814, weekdays between 7 a.m. and 4 p.m. (Pacific Time), telephone (916) 498-5852, e-mail: edrie.vinson@fhwa.dot.gov or Kim Turner, Wildlife Biologist, Endangered Species Program, U.S. Fish and Wildlife Service, 2800 Cottage Way W-2605, Sacramento, CA 95825, telephone (916) 414-6577, e-mail: kim_s_turner@fws.gov. Margaret Lawrence, Senior Environmental Planner, California Department of Transportation, 1976 East Charter Way, Stockton, CA 95201, telephone (209) 948-7427, e-mail: margaret_lawrence@dot.ca.gov or Steve Rough, Project Manager, Merced County, 345 West 7th Street, Merced, CA 95340, telephone (209) 385-7601, e-mail: SRough@co.merced.ca.us.

SUPPLEMENTARY INFORMATION: Notice is hereby given that the FHWA and other Federal agencies have taken final agency actions subject to 23 U.S.C. 139(I)(1) by issuing approvals for the following expressway project in the State of California: Campus Parkway between the Mission Avenue Interchange on State Route 99 in Merced County. This project would improve existing and future circulation east of the City of Merced and provide access to planned developments north and east of the city as well as the first phase of the Merced Campus of the University of California. This would be accomplished by constructing a four-lane expressway south and east of the City of Merced, in Merced County, from the Mission Avenue Interchange at State Route 99 north to Yosemite Avenue northeast of the city.

The actions by the Federal agencies and the laws under which such actions were taken are described in the Final Environmental Impact Statement (FEIS) for the project, approved on November 28, 2006, in the Record of Decision (ROD) issued on April 30, 2007, and in other documents in the FHWA project files. The FEIS, ROD, and other project records are available by contacting the FHWA or the California Department of Transportation at the addresses provided above. The FHWA FEIS and ROD can be viewed and downloaded from the project Web site http://www.dot.ca.gov/dist10/d10projects/merced/reports.htm or viewed at public libraries in the project area.

This notice applies to all Federal agency decisions as of the issuance date of this notice and all laws under which such actions were taken, including but not limited to:

1. General: National Environmental Policy Act (NEPA) (42 U.S.C. 4321-4351); Federal-Aid Highway Act (23 U.S.C. 109).

2. Air: Clean Air Act, 42 U.S.C. 7401-7671(q).

3. Wildlife: Endangered Species Act (16 U.S.C. 1531-1544 and Section 1536), Migratory Bird Treaty Act (16 U.S.C. 703-712).

4. Historic and Cultural Resources: Section 106 of the National Historic Preservation Act of 1966, as amended (16 U.S.C. 470[f] et seq.).

5. Social and Economic: Civil Rights Act of 1964 (42 U.S.C. 2000[d]-2000[d][1]; Farmland Protection Policy Act (FPPA) (7 U.S.C. 4201-4209).

6. Wetlands and Water Resources: Clean Water Act, 33 U.S.C. 1251-1377 (Section 404, Section 401, Section 319).

7. Executive Orders: E.O. 11990 Protection of Wetlands; E.O. 11990 Floodplain Management; E.O. 12898 Federal Actions to Address Environmental Justice in Minority Populations and Low Income Populations; E.O. 13112 Invasive Species.

(Catalog of Federal Domestic Assistance Program Number 20.205, Highway Planning and Construction. The regulations implementing Executive Order 12372 regarding intergovernmental consultation on Federal programs and activities apply to this program.)

Authority: 23 U.S.C. 139(I)(1).

Issued on: May 8, 2007.
Gene K. Fong,
Division Administrator, Federal Highway Administration, Sacramento, California.

[FR Doc. E7-9377 Filed 5-15-07; 8:45 am]

BILLING CODE 4910-RY-P